DEPARTMENT OF DEFENSE

Department of the Air Force

2005 Base Closure and Realignment (BRAC) Recommendations for the Joint Strike Fighter Initial Joint Training Site at Eglin Air Force Base, FL

ACTION: Record of Decision (ROD).

SUMMARY: On February 5, 2009, the United States Air Force signed the ROD for the implementation of the BRAC 2005 recommendations for the Joint Strike Fighter (JSF) Initial Joint Training Site (IJTS) at Eglin Air Force Base (AFB), Florida. The ROD states the Air Force decision to implement portions of the Alternative 1 cantonment and Alternative 1 flight training action alternatives, by allowing delivery of 59 aircraft, associated cantonment construction, and limiting flight training operations until a Supplemental Environmental Impact Statement (EIS) is completed. The decision was based on matters discussed in the Final EIS, inputs from the public and regulatory agencies, and other relevant factors. On October 17, 2008 the Final EIS Notice of Availability was published in the Federal Register (Volume 73, Number 202, Page 61859) with the waiting period for signing the ROD ending on November 17, 2008.

FOR FURTHER INFORMATION CONTACT: Mr. Mike Spaits, Public Affairs Officer, 96 ABW/PA, Eglin AFB, FL 32542-500, phone (850) 882-2878.

Bao-Anh Trinh,
Air Force Federal Register Liaison Officer.

[FR Doc. E9-3714 Filed 2-20-09; 8:45 am]

BILLING CODE 5001-06-P